DEPARTMENT OF LABOR

Employment and Training Administration

[TA-W-71,633]

EGS Electrical Group, LLC, a Subsidiary of Emerson Incorporated, Pittston, PA; Notice of Termination of Investigation

Pursuant to Section 221 of the Trade Act of 1974, as amended, an investigation was initiated on September 9, 2009, in response to a worker petition filed by workers of EGS Electric, LLC, Pittston, Pennsylvania.

The petition is a duplicate of petition number TA-W-71,614, filed on July 8, 2009, that is subject of an ongoing investigation. Therefore, further investigation in this case would serve no purpose and the investigation has been terminated.

Signed in Washington, DC, this 15th day of January 2010.
Elliott S. Kushner,
Certifying Officer, Division of Trade Adjustment Assistance.

[FR Doc. 2010-5352 Filed 3-11-10; 8:45 am]

BILLING CODE 4510-FN-P